DEPARTMENT OF HOMELAND SECURITY

Coast Guard

33 CFR Part 165

[Docket No. USCG-0270]

Safety Zones; Annual Events in the Captain of the Port Buffalo Zone—Cleveland National Air Show

AGENCY: Coast Guard, Department of Homeland Security (DHS).

ACTION: Notification of enforcement of regulation.

SUMMARY: The Coast Guard will enforce a safety zone for the Cleveland National Airshow from September 1 through September 5, 2022, to provide for the safety of life and property on navigable waters during this event. Our regulation for annual events in the Captain of the Port Buffalo Zone identifies the regulated area for this event in Cleveland, OH. During the enforcement period, no person or vessel may enter the safety zone without the permission of the Captain of the Port Buffalo.

DATES: The regulations in 33 CFR 165.939 will be enforced for the Cleveland National Airshow safety zone listed in item (d)(2) in the Table to § 165.939 from 9 a.m. through 6 p.m., each day from September 1, 2022, through September 5, 2022.

FOR FURTHER INFORMATION CONTACT: If you have questions about this notification of enforcement, call or email LT Jared Stevens, Waterways Management Division, Marine Safety Unit Cleveland, U.S. Coast Guard; telephone 216-937-0124, email D09-SMB-MSUCLEVELAND-WWM@uscg.mil.

SUPPLEMENTARY INFORMATION: The Coast Guard will enforce the safety zone listed in 33 CFR 165.939 for the Cleveland National Airshow daily from 9 a.m. through 6 p.m. on September 1 through September 5, 2022. This action is being taken to provide for the safety of life on navigable waterways during this multi-day event. Our regulation for annual events in the Captain of the Port Buffalo Zone identifies the regulated area for the Cleveland National Airshow which encompasses all U.S. waters of Lake Erie and Cleveland Harbor (near Burke Lakefront Airport) from 41°30′20″ N and 081°42′20″ W to 41°30′50″ N and 081°42′49″ W, to 41°32′09″ N and 081°39′49″ W, to 41°31′53″ N and 081°39′24″ W.

Pursuant to 33 CFR 165.23, entry into, transiting, or anchoring within the safety zone during the enforcement period is prohibited unless authorized by the Captain of the Port Buffalo or their designated representative. Those seeking permission to enter the safety zone may request permission from the Captain of Port Buffalo via VHF Channel 16. Vessels and persons granted permission to enter the safety zone shall obey the directions of the Captain of the Port Buffalo or his designated representative. While within a safety zone, all vessels shall operate at the minimum speed necessary to maintain a safe course.

In addition to this notification of enforcement in the Federal Register, the Coast Guard plans to provide notification of this enforcement period via the Local Notice to Mariners and marine information broadcasts.

Dated: April 11, 2022.
L.M. Littlejohn,
Captain, U.S. Coast Guard, Captain of the Port Buffalo.

[FR Doc. 2022-09994 Filed 5-9-22; 8:45 am]

BILLING CODE 9110-04-P